DEPARTMENT OF TRANSPORTATION

Federal Aviation Administration

Ninth Meeting: RTCA Special Committee 225, Rechargeable Lithium Battery and Battery Systems—Small and Medium Size

AGENCY: Federal Aviation Administration (FAA), U.S. Department of Transportation (DOT).

ACTION: Meeting Notice of RTCA Special Committee 225, Rechargeable Lithium Battery and Battery Systems—Small and Medium Size.

SUMMARY: The FAA is issuing this notice to advise the public of the ninth meeting of the RTCA Special Committee 225, Rechargeable Lithium Battery and Battery Systems—Small and Medium Size.

DATES: The meeting will be held October 9-11, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 225. The agenda will include the following:

Tuesday, October 9, 2012

• Introductions and administrative items.

• Review agenda.

• Review and approval of summary from last plenary meeting.

• Review schedule for upcoming Plenaries, working group meetings, and document preparation.

• Review action items.

• Working Group Meeting—Review draft document.

Wednesday, October 10, 2012

• Review agenda, other actions.

• Working Group Meeting—Review draft document.

Thursday, October 11, 2012

• Review agenda, other actions.

• Verify dates of next plenary and upcoming working group meetings.

• Establish Agenda for next plenary meeting.

• Working Group Meeting—Review draft document.

• Working Group report, review progress and actions.

• Review new action items

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 6, 2012.
David Sicard,
Manager, Business Operations Group, Federal Aviation Administration.

[FR Doc. 2012-22462 Filed 9-11-12; 8:45 am]

BILLING CODE 4910-13-P